DEPARTMENT OF HEALTH AND HUMAN SERVICES

National Institutes of Health

National Cancer Institute Amended; Notice of Meeting

Notice is hereby given of a change in the meeting of the National Cancer Institute Special Emphasis Panel, June 16, 2015 8:00 a.m. to June 17, 2015, 06:00 p.m., Doubletree by Hilton Bethesda, 8120 Wisconsin Avenue, Bethesda, MD, 20892 which was published in the Federal Register on April 17, 2015, 80FR21250.

The meeting notice is amended to change the start time on June 16, 2015 from 8:00 a.m. to 6:00 p.m. and the end time on June 17, 2015 from 6:00 p.m. to 3:00 p.m. The meeting is closed to the public.

Dated: May 6, 2015.
Melanie J. Gray,
Program Analyst, Office of Federal Advisory Committee Policy.

[FR Doc. 2015-11357 Filed 5-11-15; 8:45 am]

BILLING CODE 4140-01-P